DEPARTMENT OF EDUCATION

National Assessment Governing Board; Meeting

AGENCY: National Assessment Governing Board; Education.

ACTION: Notice of open meeting and partially closed meetings.

SUMMARY: The notice set forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than July 27, 2005. We will attempt to meet requests after this date, but cannot guarantee availability of the requested accommodation. The meeting site is accessible to individuals with disabilities.

DATES: August 4-6, 2005.

TIMES:

August 4:

Committee Meetings:

Assessment Development Committee: Closed Session—9 a.m. to 3:45 p.m.;

Reporting and Dissemination Committee: Open Session—2 p.m. to 3:45 p.m.;

Executive Committee: Open Session—4 p.m. to 5 p.m.; Closed session—5 p.m. to 6 p.m.

August 5:

Full Board: Open Session—8 a.m. to 12:30 p.m.; Closed Session 12:30 p.m.—2 p.m.; Open session—2 p.m. to 4:30 p.m.

Committee Meetings:

Assessment Development Committee: Open Session—10:30 a.m. to 12:30 p.m.;

Committee on Standards, Design, and Methodology: Open Session—10:30 a.m. to 12:30 p.m.;

Reporting and Dissemination Committee: Open Session—10:30 a.m. to 12:30 p.m.;

August 6:

Full Board: Open Session—8:30 a.m. to 12 p.m.;

LOCATION: St. Regis Hotel, 923 16th and K Streets NW., Washington, DC 20006.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Assessment Development Committee will meet in closed session on August 4 from 9 a.m. to 3:45 p.m. to review cognitive items for the 2006 National Assessment of Educational Progress (NAEP) assessments items in Civics, U.S. History, and Economics. This review is required by the No Child Left Behind Act of 2001 prior to submission to the Office of Management and Budget for clearance. This is the last review of the 2006 assessment instruments by NAGB. The meeting must be considered in closed session as disclosure of proposed test items from the NAEP assessments would significantly impede implementation of the NAEP program, and is therefore protected by exemption 9(B) of section 552b(c) of Title 5 U.S.C.

On August 4, the Reporting and Dissemination Committee will meet in open session from 2 p.m. to 3:45 p.m.

The Executive Committee will meet in open session on August 4 from 4 p.m. to 5 p.m. The Executive Committee will meet in closed session on August 4 from 5 p.m. to 6 p.m. to receive independent government cost estimates from the National Center for Education Statistics for proposed contracts for item development, sample selection, analysis, and reporting of NAEP testing for 2007-2012 and their implications on future NAEP activities. This part of the meeting must be conducted in closed session because public disclosure of this information would likely have an adverse financial effect on the NAEP program and will provide an advantage to potential bidders attending the meeting. The discussion of this information would be likely to significantly impede implementation of a proposed agency action if conducted in open session. Such matters are protected by exemption 9(B) of section 552b(c) of Title 5 U.S.C.

On August 5, the full Board will meet in open session from 8:30 a.m. to 12:30 p.m. The Board will approve the agenda and the Chairman will introduce a new Board member, who will then be administered the Oath of Office by Secretary of Education, Margaret Spellings. The Board will then hear the Executive Director's report and receive an update on the work of the National Center for Education Statistics (NCES) from the Director of the Institute of Education Sciences.

From 10:30 a.m. to 12:30 p.m. on August 5, the Board's standing committees—the Assessment Development Committee; the Committee on Standards, Design, and Methodology; and the Reporting and Dissemination Committee—will meet in open session.

The full Board will meet in closed session on August 5 from 12:30 p.m. to 2 p.m. The Board will preview the 2005 draft NAEP Reading and Mathematics results presented by the Associate Commissioner, National Center for Education Statistics. The data constitute a major basis for the national release of the Reading and Mathematics Report Cards in the fall of 2005 and cannot be released in an open meeting prior to the official release of the report. The meeting must therefore be conducted in closed session as disclosure of data would significantly impede implementation of the NAEP release activities, and is therefore protected by exemption 9(B) of section 552b(c) of Title 5 U.S.C.

On August 5, the full Board will meet in open session from 2 p.m. to 4:30 p.m. At 2:15 p.m. Board members will receive an update on the NAEP 2009 Science Framework project, followed by Board discussion of options to consider for 12th Grade State NAEP from 3:15 p.m. to 4:30 p.m. upon which the August 5 session of the Board meeting will conclude.

On August 6, the full Board will convene in open session from 8:30 a.m. to 12 p.m. At 8:30 a.m., the Board will receive results of two research studies on assessment by computer in Mathematics and Writing. Board actions on policies and Committee reports are scheduled to take place between 10:15 a.m. and 12 p.m., upon which the August 6, 2005 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. eastern standard time.

Dated: July 14, 2005.
Charles E. Smith,
Executive Director, National Assessment Governing Board.

[FR Doc. 05-14199 Filed 7-19-05; 8:45 am]

BILLING CODE 4000-01-M